DEPARTMENT OF AGRICULTURE

Office of the Secretary

Fiscal Year 2020 Tariff-Rate Quotas Increased for Raw Cane Sugar and Refined Sugar

AGENCY: Office of the Secretary, USDA.

ACTION: Notice.

SUMMARY: The Office of the Secretary of the U.S. Department of Agriculture (the Secretary) is providing notice of an increase in the fiscal year (FY) 2020 sugar tariff-rate quotas (TRQs) of 317,515 metric tons raw value (MTRV) for raw cane sugar, and 181,437 MTRV for refined sugar.

DATES: This notice is applicable on April 3, 2020.

ADDRESSES: Multilateral Affairs Division, Trade Policy and Geographic Affairs, Foreign Agricultural Service, U.S. Department of Agriculture, Stop 1070, 1400 Independence Avenue SW, Washington, DC 20250-1070.

FOR FURTHER INFORMATION CONTACT: Souleymane Diaby, (202) 720-2916, Souleymane.Diaby@usda.gov.

SUPPLEMENTARY INFORMATION: On June 27, 2019, the Secretary established the FY 2020 TRQ for raw cane sugar at 1,117,195 MTRV, the minimum to which the United States is committed under the World Trade Organization (WTO) Uruguay Round Agreements. Pursuant to Additional U.S. Note 5 to Chapter 17 of the U.S. Harmonized Tariff Schedule (HTS) and Section 359k of the Agricultural Adjustment Act of 1938, as amended, the Secretary has authority to modify the raw and refined sugar WTO TRQs. The Secretary gives notice today of an increase in the quantity of raw cane sugar eligible to enter at the lower rate of duty during FY 2020 by 317,515 MTRV. The conversion factor is 1 metric ton raw value equals 1.10231125 short tons raw value. With this increase, the overall FY 2020 raw sugar TRQ is now 1,434,710 MTRV. Raw cane sugar under this quota must be accompanied by a certificate for quota eligibility and may be entered until September 30, 2020. The Office of the U.S. Trade Representative (USTR) will allocate this increase among supplying countries and customs areas.

On June 27, 2019, USDA established the FY 2020 refined sugar TRQ at an aggregate quantity of 192,000 MTRV, of which 20,344 MTRV was reserved for refined sugar other than specialty sugar. On July 15, 2019, USTR allocated this refined sugar TRQ as follows: 10,300 MTRV to Canada; 2,954 MTRV to Mexico; 7,090 MTRV to be administered on a first-come, first-served basis; and 171,656 MTRV for specialty sugar. Today, the Secretary announces an increase in the fiscal year (FY) 2020 refined sugar TRQ of 181,437 MTRV, to a total of 373,437 MTRV. USTR will allocate this refined sugar TRQ increase. Only refined sugar with a sucrose content, by weight in the dry state, corresponding to a reading of 99.5 degrees polarity or more will be permitted.

These actions are being taken after a determination that additional supplies of raw cane and refined sugar are required in the U.S. market. USDA will closely monitor stocks, consumption, imports and all sugar market and program variables on an ongoing basis and may make further program adjustments during FY 2020 if needed.

Ted McKinney,
Under Secretary, Trade and Foreign Agricultural Affairs.

[FR Doc. 2020-07164 Filed 4-1-20; 4:15 pm]

BILLING CODE 3410-10-P